DEPARTMENT OF DEFENSE

GENERAL SERVICES ADMINISTRATION

NATIONAL AERONAUTICS AND SPACE ADMINISTRATION

48 CFR Parts 1, 2, 3, 4, 5, 6, 7, 8, 9, 10, 11, 12, 13, 14, 15, 16, 18, 19, 22, 23, 25, 26, 27, 28, 29, 30, 31, 32, 37, 38, 39, 42, 44, 46, 47, 49, 52, and 53

[FAR Case 2018-018; Docket No. FAR-2018-0018, Sequence No. 1]

RIN 9000-AN76

Federal Acquisition Regulation: Revision of Definition of “Commercial Item”

AGENCY: Department of Defense (DoD), General Services Administration (GSA), and National Aeronautics and Space Administration (NASA).

ACTION: Proposed rule.

SUMMARY: DoD, GSA and NASA are proposing to amend the Federal Acquisition Regulation to implement a section of the John S. McCain National Defense Authorization Act for Fiscal Year 2019 to change the definition of “commercial item.”

DATES: Interested parties should submit comments to the Regulatory Secretariat Division at one of the addresses shown below on or before December 14, 2020 to be considered in the formulation of a final rule.

ADDRESSES: Submit comments in response to FAR Case 2018-018 to https://www.regulations.gov. Submit comments via the Federal eRulemaking portal by searching for “FAR Case 2018-018”. Select the link “Comment Now” that corresponds with “FAR Case 2018-018.” Follow the instructions provided at the “Comment Now” screen. Please include your name, company name (if any), and “FAR Case 2018-018” on your attached document. If your comment cannot be submitted using https://www.regulations.gov, call or email the points of contact in the FOR FURTHER INFORMATION CONTACT section of this document for alternate instructions.

Instructions: Please submit comments only and cite “FAR case 2018-018” in all correspondence related to this case. Comments received generally will be posted without change to https://www.regulations.gov, including any personal and/or business confidential information provided. To confirm receipt of your comment(s), please check https://www.regulations.gov, approximately two to three days after submission to verify posting.

FOR FURTHER INFORMATION CONTACT: Ms. Zenaida Delgado, Procurement Analyst, at 202-969-7207 or zenaida.delgado@gsa.gov for clarification of content. For information pertaining to status or publication schedules, contact the Regulatory Secretariat Division at 202-501-4755. Please cite “FAR Case 2018-018”.

SUPPLEMENTARY INFORMATION:

I. Background

The current Federal Acquisition Regulation (FAR) definition of “commercial item” in FAR part 2 was established by FAR case 94-790, Acquisition of Commercial Items, published at 60 FR 48231 on September 18, 1995, which implemented the revised statutory authorities in Title VIII of the Federal Acquisition Streamlining Act of 1994 (Pub. L. 103-355).

DoD, GSA, and NASA are proposing to amend the FAR definition of “commercial item” to implement section 836 of the John S. McCain National Defense Authorization Act (NDAA) for Fiscal Year (FY) 2019 (Pub. L. 115-232). This section separates the definition of “commercial item” at 41 U.S.C. 103 into the definitions of “commercial product” and “commercial service,” at 41 U.S.C. 103 and 103a. Section 836 sets the effective date of the new definitions as January 1, 2020.

Splitting the definition of “commercial item” into the definitions of “commercial product” and “commercial service” was a recommendation made by the independent panel created by section 809 of the NDAA for FY 2016 (Pub. L. 114-92). The panel was created to review and improve the functioning of the defense acquisition system, and eliminate any regulations found unnecessary to achieve such improvements. The panel recommended the splitting of the definition of “commercial item” to better “reflect the significant roles services and commercial services play today in the DoD procurement budget.” See recommendation on pages 29 to 30 of Volume 1 of 3 dated January 2018 of the Report of the Advisory Panel on Streamlining and Codifying Acquisition Regulations, available via the internet at https://section809panel.org/wp-content/uploads/2018/04/Sec809Panel_Vol1-Report_Jan18_REVISED_2018-03-14.pdf.

This change resolves the issue the Section 809 Panel cites, which is that the “acquisition workforce has faced issues with inconsistent interpretations of policy, confusion over how to identify eligible commercial products and services”. Bifurcating the definition of “commercial item” into “commercial product” and “commercial service” is a way to provide clarity for the acquisition workforce, which may result in greater engagement with the commercial marketplace.

It is important to note, the amendment to separate “commercial item” with “commercial product” and “commercial service” does not expand or shrink the universe of products or services that the Government may procure using FAR part 12, nor does it change the terms and conditions vendors must comply with.

II. Discussion and Analysis

As required by section 836 of the NDAA for FY 2019, DoD, GSA, and NASA are proposing to replace instances of commercial item(s) with commercial product(s), commercial service(s), or both commercial product(s) and commercial service(s). The following summarizes the proposed changes to the FAR:

1. Removed from FAR part 2 the definition of “commercial item” and replaced it with the definitions of “commercial product,” and “commercial service” from the NDAA with only the minor revisions for clarification currently in the FAR definition of “commercial item.” The clarification in paragraph 3(ii) of the proposed definition of “commercial product” has been in FAR part 2 since the definition of “commercial item” was incorporated by FAR case 94-790, Acquisition of Commercial Items, in 1995. Paragraphs 2(i) and 2(ii) of the proposed definition of “commercial service” are also long standing; they stem from a FAR change published October 22, 2001, which was revised slightly in a FAR change published June 18, 2004.

2. Replaced all instances of “non-commercial” and “noncommercial” with “other than commercial” as it relates to this rule. This is an editorial change and will provide consistent language throughout the FAR.

3. Removed FAR 12.102(g), and a corresponding reference at FAR 37.601(c), as obsolete. FAR 12.102(g) only applies to contracts or orders entered into before November 23, 2013.

4. Added the definition of “established price” at FAR 16.001 to be consistent with the term as defined at the FAR clauses at FAR 52.216-2, Economic Price Adjustment—Standard Supplies, and 52.216-3, Economic Price Adjustment-Semistandard Supplies. This is an editorial change for consistency to have the definition in both the clause and the corresponding FAR part.

5. Made conforming changes to cross references, and the following Standard Forms (SF): SF 294, Subcontracting Report for Individual Contracts; SF 1443, Contractor's Request for Progress Payment; and SF 1449, Solicitation/Contract/Order for Commercial Items. These forms are managed by the FAR Council and were identified as containing the term “commercial item.” This rule proposes to replace each instance of the term with “commercial product” or “commercial service” as appropriate. Also minor editorial changes were made as needed throughout the FAR. These revisions do not impact terms and conditions of commercial contracts or how the Government procures commercial products or commercial services.

III. Applicability to Contracts at or Below the Simplified Acquisition Threshold (SAT) and for Commercial Items, Including Commercially Available Off-the-Shelf (COTS) Items

This rule does not add any new solicitation provisions or contract clauses. This rule merely replaces the term “commercial item(s)” with “commercial product(s),” “commercial service(s),” “commercial product(s) or commercial service(s),” or “commercial product(s) and commercial service(s)” in the FAR including in part 52, as appropriate. It does not add any new burdens because the case does not add or change any requirements with which vendors must comply.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule is not a significant regulatory action and, therefore, was not subject to review under section 6(b) of E.O. 12866, Regulatory Planning and Review, dated September 30, 1993. This rule is not a major rule under 5 U.S.C. 804.

V. Executive Order 13771

This rule is not subject to E.O. 13771, because this rule is not a significant regulatory action under E.O. 12866.

VI. Regulatory Flexibility Act

DoD, GSA, and NASA do not expect this proposed rule to have a significant economic impact on a substantial number of small entities within the meaning of the Regulatory Flexibility Act, 5 U.S.C. 601, et seq. However, an Initial Regulatory Flexibility Analysis (IRFA) has been performed and is summarized as follows:

DoD, GSA, and NASA are proposing to amend the FAR to change the definition of “commercial item” by splitting it into the definitions of “commercial product” and “commercial service.”

The objective is to implement section 836 of the John S. McCain NDAA for FY19 (Pub. L. 115-232). The legal basis for this rule is 40 U.S.C. 121(c), 10 U.S.C. chapter 137, and 51 U.S.C. 20113.

The proposed rule impacts all entities that do business with the Federal Government, including the over 327,458 small business registrants in the System for Award Management database. However, DoD, GSA, and NASA do not expect this proposed rule to have a significant economic impact on a substantial number of small entities because the rule is not implementing any requirements with which small entities must comply. This proposed rule splits the definition of “commercial item” into the definitions of “commercial product” and “commercial service.” These revisions do not impact terms and conditions of commercial contracts or how the Government procures commercial products or commercial services; it is merely editorial.

The proposed rule does not include additional, or change any existing, reporting or record keeping requirements. The rule does not duplicate, overlap, or conflict with any other Federal rules. There are no available alternatives to the proposed rule to accomplish the desired objective of the statute.

The Regulatory Secretariat Division has submitted a copy of the IRFA to the Chief Counsel for Advocacy of the Small Business Administration. A copy of the IRFA may be obtained from the Regulatory Secretariat Division. DoD, GSA and NASA invite comments from small business concerns and other interested parties on the expected impact of this rule on small entities.

DoD, GSA, and NASA will also consider comments from small entities concerning the existing regulations in subparts affected by this rule consistent with 5 U.S.C. 610. Interested parties must submit such comments separately and should cite 5 U.S.C. 610 (FAR Case 2018-018) in correspondence.

VII. Paperwork Reduction Act

The Paperwork Reduction Act (44 U.S.C. Chapter 35) does apply; however, the proposed changes to the FAR and the updates to the information collections do not impose new information collection burden. The changes do not impose additional, or change any existing, information collection requirements to the paperwork burden previously approved under the following OMB Control Numbers: 9000-0007, Subcontracting Plans; 9000-0018, Certification Of Independent Price Determination, Contractor Code of Business Ethics and Conduct, and Preventing Personal Conflicts of Interest; 9000-0193, FAR Part 9 Responsibility Matters; 9000-0097, Federal Acquisition Regulation Part 4 Requirements; 9000-0136, Commercial Item Acquisitions; 9000-0034, Examination of Records by Comptroller General and Contract Audit; 9000-0013, Certified Cost or Pricing Data and Data Other Than Certified Cost or Pricing Data; 9000-0048, Authorized Negotiators and Integrity of Unit Prices; 9000-0010, Progress Payments, SF 1443; 9000-0024, Buy American, Trade Agreements, and Duty-Free Entry; 9000-0061, Transportation Requirements; 9000-0068, Economic Price Adjustment; 9000-0070, Payments; 9000-0138, Contract Financing; 9000-0188, Combating Trafficking in Persons; 9000-0197, Use of Products and Services of Kaspersky Lab; 9000-0198, Violations of Arms Control Treaties or Agreements; and 1615-0092, E-Verify Program.

List of Subjects in 48 CFR Parts 1, 2, 3, 4, 5, 6, 7, 8, 9, 10, 11, 12, 13, 14, 15, 16, 18, 19, 22, 23, 25, 26, 27, 28, 29, 30, 31, 32, 37, 38, 39, 42, 44, 46, 47, 49, 52, and 53

Government procurement.

William F. Clark,
Director, Office of Government-wide Acquisition Policy, Office of Acquisition Policy, Office of Government-wide Policy.

Therefore, DoD, GSA, and NASA are proposing to amend 48 CFR parts 1, 2, 3, 4, 5, 6, 7, 8, 9, 10, 11, 12, 13, 14, 15, 16, 18, 19, 22, 23, 25, 26, 27, 28, 29, 30, 31, 32, 37, 38, 39, 42, 44, 46, 47, 49, 52, and 53 as set forth below:

1. The authority citation for 48 CFR parts 1, 2, 3, 4, 5, 6, 7, 8, 9, 10, 11, 12, 13, 14, 15, 16, 18, 19, 22, 23, 25, 26, 27, 28, 29, 30, 31, 32, 37, 38, 39, 42, 44, 46, 47, 49, 52, and 53 continues to read as follows:

Authority: 40 U.S.C. 121(c); 10 U.S.C. chapter 137; and 51 U.S.C. 20113.

PART 1—FEDERAL ACQUISITION REGULATIONS SYSTEM

1.102 [Amended]

2. Amend section 1.102 by removing from paragraph (b)(1)(i) “commercial products and services;” and adding “commercial products and commercial services;” in its place.

1.102-2 [Amended]

3. Amend section 1.102-2 by removing from paragraph (a)(4) “commercial products and services” and adding “commercial products and commercial services” in its place.

PART 2—DEFINITIONS OF WORDS AND TERMS

4. Amend section 2.101 in paragraph (b)(2) by—

a. In the defined term “Biobased product” removing “commercial or industrial product” and adding “commercial product or industrial product” in its place;

b. In the defined term “Commercial component” removing “commercial item” and adding “commercial product” in its place;

c. In the defined term “Commercial computer software” removing “commercial item” and adding “commercial product or commercial service” in its place.

d. Removing the defined term “Commercial item”;

e. In the defined term “Commercially available off-the-shelf (COTS) item” removing in paragraph (1)(i) “commercial item”, and “definition in this section” and adding “commercial product” and “definition of “commercial product” in this section” in their places, respectively; and

f. Adding the defined terms “Commercial product” and “Commercial service” in alphabetical order to read as follows:

2.101 Definitions.

* * * * *

(b) * * *

(2) * * *

Commercial product means—

(1) A product, other than real property, that is of a type customarily used by the general public or by nongovernmental entities for purposes other than governmental purposes, and—

(i) Has been sold, leased, or licensed to the general public; or

(ii) Has been offered for sale, lease, or license to the general public;

(2) A product that evolved from a product described in paragraph (1) of this definition through advances in technology or performance and that is not yet available in the commercial marketplace, but will be available in the commercial marketplace in time to satisfy the delivery requirements under a Government solicitation;

(3) A product that would satisfy a criterion expressed in paragraphs (1) or (2) of this definition, except for—

(i) Modifications of a type customarily available in the commercial marketplace; or

(ii) Minor modifications of a type not customarily available in the commercial marketplace made to meet Federal Government requirements. “Minor modifications” means modifications that do not significantly alter the nongovernmental function or essential physical characteristics of an item or component, or change the purpose of a process. Factors to be considered in determining whether a modification is minor include the value and size of the modification and the comparative value and size of the final product. Dollar values and percentages may be used as guideposts, but are not conclusive evidence that a modification is minor;

(4) Any combination of products meeting the requirements of paragraphs (1), (2), or (3) of this definition that are of a type customarily combined and sold in combination to the general public;

(5) A product, or combination of products, referred to in paragraphs (1) through (4) of this definition, even though the product, or combination of products, is transferred between or among separate divisions, subsidiaries, or affiliates of a contractor; or

(6) A nondevelopmental item, if the procuring agency determines the product was developed exclusively at private expense and sold in substantial quantities, on a competitive basis, to multiple State and local governments or to multiple foreign governments.

* * * * *

Commercial service means—

(1) Installation services, maintenance services, repair services, training services, and other services if—

(i) Such services are procured for support of a commercial product as defined in this section, regardless of whether such services are provided by the same source or at the same time as the commercial product; and

(ii) The source of such services provides similar services contemporaneously to the general public under terms and conditions similar to those offered to the Federal Government;

(2) Services of a type offered and sold competitively in substantial quantities in the commercial marketplace based on established catalog or market prices for specific tasks performed or specific outcomes to be achieved and under standard commercial terms and conditions. For purposes of these services—

(i) Catalog price means a price included in a catalog, price list, schedule, or other form that is regularly maintained by the manufacturer or vendor, is either published or otherwise available for inspection by customers, and states prices at which sales are currently, or were last, made to a significant number of buyers constituting the general public; and

(ii) Market prices means current prices that are established in the course of ordinary trade between buyers and sellers free to bargain and that can be substantiated through competition or from sources independent of the offerors;

(3) A service referred to in paragraphs (1) or (2) of this definition, even though the service is transferred between or among separate divisions, subsidiaries, or affiliates of a contractor.

* * * * *

PART 3—IMPROPER BUSINESS PRACTICES AND PERSONAL CONFLICTS OF INTEREST

3.104-1 [Amended]

5. Amend section 3.104-1 by removing from the defined term “Contractor bid or proposal information” in paragraph (1) “10 U.S.C. 2306a(h)” and “41 U.S.C. 3501(a)(2)” and adding “10 U.S.C. 2306a(h)(1)” and “41 U.S.C. 3501(a)(1)” in their places, respectively.

6. Amend section 3.104-9 by revising the introductory text to read as follows:

3.104-9 Contract clauses.

In solicitations and contracts that exceed the simplified acquisition threshold, other than those for commercial products or commercial services, insert the clauses at—

* * * * *

3.404 [Amended]

7. Amend section 3.404 by removing “commercial items” and adding “commercial products or commercial services” in its place.

8. Amend section 3.502-2 by revising paragraph (i) to read as follows:

3.502-2 Subcontractor kickbacks.

* * * * *

(i) Requires each contracting agency to include in each prime contract, other than for commercial products or commercial services, exceeding $150,000, a requirement that the prime contractor shall—

* * * * *

3.502-3 [Amended]

9. Amend section 3.502-3 by removing “commercial items” and adding “commercial products or commercial services” in its place.

3.503-2 [Amended]

10. Amend section 3.503-2 by removing “commercial items” and adding “commercial products or commercial services” in its place.

3.1004 [Amended]

11. Amend section 3.1004 by removing from paragraph (b)(1) “commercial item” and adding “commercial product or commercial service” in its place.

PART 4—ADMINISTRATIVE AND INFORMATION MATTERS

4.203 [Amended]

12. Amend section 4.203 by removing from paragraph (a) “Commercial Items” and adding “Commercial Products and Commercial Services” in its place.

4.605 [Amended]

13. Amend section 4.605 by removing from paragraph (b) “Commercial Items” and adding “Commercial Products and Commercial Services” in its place.

4.1103 [Amended]

14. Amend section 4.1103 by removing from paragraph (a)(3) “Commercial Items” and adding “Commercial Products and Commercial Services” in its place.

4.1201 [Amended]

15. Amend section 4.1201 by removing from paragraph (d) “commercial items” and adding “commercial products or commercial services” in its place.

4.1202 [Amended]

16. Amend section 4.1202 by removing from paragraph (a) “commercial item solicitations” and adding “solicitations for commercial products or commercial services” in its place.

4.1902 [Amended]

17. Amend section 4.1902 by removing from text “commercial items” and adding “commercial products or commercial services,” in its place.

PART 5—PUBLICIZING CONTRACT ACTIONS

5.202 [Amended]

18. Amend section 5.202 by removing from paragraph (a)(10) “commercial items” and adding “commercial products” in its place.

5.203 [Amended]

19. Amend section 5.203 by removing from paragraphs (a), (b), and (c) “commercial items” and adding “commercial products or commercial services” in their places, respectively.

PART 6—COMPETITION REQUIREMENTS

6.001 [Amended]

20. Amend section 6.001 by removing from paragraph (a) “commercial items” and adding “commercial products or commercial services” in its place.

6.302-5 [Amended]

21. Amend section 6.302-5 by removing from paragraph (a)(2)(ii) “commercial item” and adding “commercial product”; and removing from paragraph (c)(3) “brand-name commercial items” and adding “brand name commercial products” in their places, respectively.

22. Amend section 6.502 by—

a. Revising paragraph (a);

b. Removing from paragraph (b)(1)(i) “commercial items” and adding “commercial products and commercial services” in its place;

c. Removing from paragraph (b)(1)(iv) “commercial items or” and adding “commercial products or commercial services, or restricting” in its place;

d. Removing from paragraph (b)(2)(ii) “commercial items” and adding “commercial products and commercial services” in its place; and

e. Removing from paragraphs (b)(2)(v) and (b)(2)(vi) “commercial items” and adding “commercial products, commercial services,” in their places, respectively.

The revised text reads as follows:

6.502 Duties and responsibilities.

(a) Agency and procuring activity advocates for competition are responsible for—

(1) Promoting the acquisition of commercial products and commercial services;

(2) Promoting full and open competition;

(3) Challenging requirements that are not stated in terms of functions to be performed, performance required or essential physical characteristics; and

(4) Challenging barriers to the acquisition of commercial products and commercial services; and full and open competition such as unnecessarily restrictive statements of work, unnecessarily detailed specifications, and unnecessarily burdensome contract clauses.

* * * * *

PART 7—ACQUISITION PLANNING

7.102 [Amended]

23. Amend section 7.102 by removing from paragraph (a)(1) “commercial items or, to the extent that commercial items suitable” and adding “commercial products or commercial services, or to the extent that commercial products suitable” in its place.

7.103 [Amended]

24. Amend section 7.103 by removing from paragraph (b) “commercial items, or to the extent that commercial items suitable” and adding “commercial products or commercial services, or to the extent that commercial products suitable” in its place.

7.105 [Amended]

25. Amend section 7.105 by removing from paragraph (b)(14)(i) “commercial items” and adding “commercial products or commercial services” in its place.

PART 8—REQUIRED SOURCES OF SUPPLIES AND SERVICES

8.402 [Amended]

26. Amend section 8.402 by—

a. Removing from paragraph (a) “commercial supplies and services” and adding “commercial supplies and commercial services” in its place; and

b. Removing from paragraph (f)(1) “commercial items (part 12),” and adding “commercial products or commercial services (part 12),” in its place.

PART 9—CONTRACTOR QUALIFICATIONS

9.106-1 [Amended]

27. Amend section 9.106-1 by removing from paragraph (a) “commercial items” and adding “commercial products or commercial services” in its place.

9.109-5 [Amended]

28. Amend section 9.109-5 by removing from the text “commercial items” and adding “commercial products or commercial services” in its place.

9.405-2 [Amended]

29. Amend section 9.405-2 by removing from paragraph (b) “commercial items” and adding “commercial products” in its place.

PART 10—MARKET RESEARCH

30. Amend section 10.001 by—

a. Removing from paragraph (a)(2)(v) “for a noncommercial item” and adding “for other than a commercial product or commercial service” in its place;

b. Removing from paragraph (a)(3)(ii) “commercial items or, to the extent commercial items suitable” and adding “commercial products or commercial services, or, to the extent commercial products suitable” in its place;

c. Removing from paragraph (a)(3)(iii) “commercial items” and adding “commercial products” in its place;

d. Removing from paragraph (a)(3)(iv) “commercial items” and adding “commercial products or commercial services” in its place; and

e. Revising paragraph (d) to read as follows:

10.001 Policy.

* * * * *

(d) In accordance with section 826 of Public Law 110-181, see 10.003 for the requirement for a prime contractor to perform market research in contracts in excess of $5.5 million, other than contracts for the acquisition of commercial products or commercial services.

10.002 [Amended]

31. Amend section 10.002 by—

a. Removing from paragraph (b) “commercial items” and adding “commercial products, commercial services,” in its place;

b. Removing from paragraph (b)(1) “item” and adding “product or service” in its place;

c. Removing from paragraphs (b)(1)(i)(A), (B), and (C) “Items” and adding “Products or services” in their places;

d. Removing from paragraph (b)(1)(ii) “items” and adding “products or services” in its place;

e. Removing from paragraph (c) “indicates commercial” and “permit commercial” and adding “indicates commercial products, commercial services,” and “permit commercial products, commercial services,” in their places, respectively; and

f. Removing from paragraph (d)(1) “item or” and “commercial item” and adding “product or” and “commercial product or commercial service” in their places, respectively.

32. Amend section 10.003 by revising the text to read as follows:

10.003 Contract clause.

The contracting officer shall insert the clause at 52.210-1, Market Research, in solicitations and contracts over $5.5 million, other than solicitations and contracts for the acquisition of commercial products or commercial services.

PART 11—DESCRIBING AGENCY NEEDS

11.002 [Amended]

33. Amend section 11.002 by—

a. Removing from paragraph (a)(2)(ii) “commercial items, or, to the extent that commercial items suitable” and adding “commercial products or commercial services, or, to the extent that commercial products suitable” in its place;

b. Removing from paragraph (a)(2) (iii) and (a)(2)(iv) “commercial items” and adding “commercial products, commercial services,” in their places; and

c. Removing from paragraph (a)(2)(v) “commercial items or,” and “commercial items suitable” and adding “commercial products or commercial services or” and “commercial products suitable” in their places, respectively.

11.302 [Amended]

34. Amend section 11.302 by—

a. Removing from paragraph (b)(1) “acquiring other” and “commercial items” and adding “acquiring products other” and “commercial products as defined in 2.101” in their places, respectively;

b. Removing from paragraph (b)(2) “commercial items” and “the item” and adding “commercial products” and “the product” in their places, respectively; and

c. Removing from paragraph (c)(1) “commercial items” and adding “commercial products” in its place.

11.304 [Amended]

35. Amend section 11.304 by removing from the text “commercial items” and adding “commercial products” in its place.

PART 12—ACQUISITION OF COMMERCIAL ITEMS

36. Amend the part heading by removing “COMMERCIAL ITEMS” and adding “COMMERCIAL PRODUCTS AND COMMERCIAL SERVICES” in its place.

12.000 [Amended]

37. Amend section 12.000 by—

a. In the first sentence removing “commercial items” and adding “commercial products, including commercial components, and commercial services” in its place; and

b. In the second sentence removing “commercial items” and “commercial items and components” and adding “commercial products and commercial services” (twice) in their places, respectively.

12.001 [Amended]

38. Amend section 12.001 by removing from the defined term “Subcontract” “commercial items” and adding “commercial products or commercial services” in its place.

12.101 [Amended]

39. Amend section 12.101 by removing from paragraphs (a), (b), and (c) “commercial items” and adding “commercial products, commercial services,” in their places.

12.102 [Amended]

40. Amend section 12.102 by—

a. Removing from paragraph (a) “the definition of commercial items” and adding “the definitions of “commercial product” or “commercial service”” in its place;

b. Removing from paragraph (c) “commercial items” (twice) and adding “commercial products or commercial services” in their places;

c. Removing from paragraph (d) “commercial item” and adding “commercial product” in its place;

d. Removing from paragraphs (e) and (f)(1) “commercial items” and adding “commercial products or commercial services” in their places;

e. Removing from paragraph (f)(2) “for an item” and “commercial item” (twice) and adding “for a product” and “commercial product or commercial service” (twice) in their places, respectively; and removing from paragraph (f)(2)(i) “see Subpart 30.2” and adding “see subpart 30.2” in its place; and

f. Removing paragraph (g).

12.103 [Amended]

41. Amend section 12.103 by removing from the text “commercial items” and “12.504);” and adding “commercial products” and “12.504).” in their places, respectively.

42. Amend the subpart heading of 12.2 by removing “Commercial Items” and adding “Commercial Products and Commercial Services” in its place.

12.201 [Amended]

43. Amend section 12.201 by removing “commercial items” (twice) and adding “commercial products and commercial services” (twice) in their places.

12.202 [Amended]

44. Amend section 12.202 by—

a. Removing from paragraph (a) “commercial items” and adding “commercial products and commercial services” in its place;

b. Removing from the first sentence of paragraph (b) “commercial items” and “products or services” and adding “commercial products or commercial services” and “products or commercial services” in their places, respectively; and

c. Removing from the second sentence of paragraph (b) “commercial item” and “type of product or service” and adding “commercial product or commercial service” and “type of commercial product or commercial service” in their places, respectively.

12.203 [Amended]

45. Amend section 12.203 by removing from the text “commercial items” (three times) and adding “commercial products and commercial services” and “commercial products or commercial services” (twice) in their places, respectively.

12.204 [Amended]

46. Amend section 12.204 by removing from paragraph (a) “Commercial Items” and adding “Commercial Products and Commercial Services” in its place.

12.205 [Amended]

47. Amend section 12.205 by—

a. Removing from the first sentence of paragraph (a) “product”; and removing from the second sentence of paragraph (a) “product literature from offerors of commercial items” and adding “product or service literature from offerors of commercial products or commercial services” in its place;

b. Removing from the first sentence of paragraph (b) “more than one product” and “commercial items” and adding “multiple offers” and “commercial products or commercial services” in their places, respectively; and removing from the second sentence of paragraph (b) “product as a separate offer” and adding “offer separately” in its place; and

c. Removing from paragraph (c) “commercial items” and adding “commercial products or commercial services” in its place.

12.206 [Amended]

48. Amend section 12.206 by removing from the text “commercial items” and adding “commercial products and commercial services” in its place.

12.207 [Amended]

49. Amend section 12.207 by removing from paragraphs (a) and (e) “commercial items” and adding “commercial products or commercial services” in their places.

50. Revise section 12.208 to read as follows:

12.208 Contract quality assurance.

Contracts for commercial products shall rely on contractors' existing quality assurance systems as a substitute for Government inspection and testing before tender for acceptance unless customary market practices for the commercial product being acquired include in-process inspection. Any in-process inspection by the Government shall be conducted in a manner consistent with commercial practice. The Government shall rely on the contractor to accomplish all inspection and testing needed to ensure that commercial services acquired conform to contract requirements before they are tendered to the Government.

12.209 [Amended]

51. Amend section 12.209 by removing from the text “commercial items” and “Commercial item” and adding “commercial products and commercial services” and “Commercial product and commercial service” in their places, respectively.

12.210 [Amended]

52. Amend section 12.210 by removing from the text “commercial items” and adding “commercial products and commercial services” in its place.

12.211 [Amended]

53. Amend section 12.211 by removing from the text “commercial item” and “commercial items” (twice) and adding “commercial product” and “commercial products” (twice) in their places, respectively.

12.214 [Amended]

54. Amend section 12.214 by—

a. Removing from the first sentence “commercial items” and adding “commercial products or commercial services” in its place;

b. Removing from the second sentence “See 48 CFR 30.201-1” and “commercial items” and adding “See 30.201-1” and “commercial products or commercial services” in their places, respectively; and

c. Removing from the last sentence “in 48 CFR 30.201” and adding “in 30.201” in its place.

55. Amend the subpart heading of 12.3 by removing “Commercial Items” and adding “Commercial Products and Commercial Services” in its place.

12.300 [Amended]

56. Amend section 12.300 by removing the text “commercial items” and adding “commercial products and commercial services” in its place.

12.301 [Amended]

57. Amend section 12.301 by—

a. Removing from the heading “commercial items” and adding “commercial products and commercial services” in its place;

b. Removing from the introductory text of paragraph (a) and from paragraph (a)(1) “commercial items” and adding “commercial products or commercial services” in their places, respectively;

c. Removing from paragraph (b) “commercial items” (twice) and adding “commercial products or commercial services” in their places;

d. Removing from paragraphs (b)(1) and (2) “Commercial Items” and “commercial items” and adding “Commercial Products and Commercial Services” and “commercial products or commercial services” in their places; and removing from the third sentence of (b)(2) “Subpart 1.4” and adding “subpart 1.4” in its place;

e. Removing from paragraph (b)(3) “Commercial Items” and adding “Commercial Products and Commercial Services” in its place;

f. Removing from paragraphs (b)(4) “Commercial Items”, “commercial items” (twice) and “Part 15” and adding “Commercial Products and Commercial Services”, “commercial products or commercial services” (twice) and “part 15” in their places, respectively;

g. Removing from paragraph (c)(1) “Commercial Items” and “commercial items” and adding “Commercial Products and Commercial Services” and “commercial products or commercial services” in their places, respectively;

h. Removing from paragraph (d) “commercial items” (twice) and adding “commercial products or commercial services” in their places, respectively; and

i. Removing from paragraph (f) “commercial items” and adding “commercial products or commercial services” in its place.

12.302 [Amended]

58. Amend section 12.302 by—

a. Removing from the heading “commercial items” and adding “commercial products and commercial services” in its place;

b. Removing from paragraph (a) “commercial items” (twice) and “Commercial Items” (twice) and adding “commercial products and commercial services” (twice) and “Commercial Products and Commercial Services” (twice) in their places, respectively;

c. Removing from paragraph (b) “Commercial Items” and “Commercial Items” and adding “Commercial Products and Commercial Services” and “Commercial Products and Commercial Services” in their places, respectively; and

d. Removing from paragraph (c) “commercial items” and adding “commercial products or commercial services” in its place.

12.303 [Amended]

59. Amend section 12.303 by—

a. Removing from the introductory text “commercial items” and adding “commercial products or commercial services” in its place;

b. Removing from paragraph (c)(1) “Commercial Items” and adding “Commercial Products and Commercial Services” in its place;

c. Removing from paragraph (c)(3) “and Executive Orders” and adding “or Executive Orders—Commercial Products and Commercial Services” in its place; and

d. Removing from paragraphs (e)(1), (e)(3), and (e)(4) “Commercial Items” and adding “Commercial Products and Commercial Services” in their places, respectively.

60. Amend subpart 12.4 by removing from the heading “Commercial Items” and adding “Commercial Products and Commercial Services” in its place.

12.401 [Amended]

61. Amend section 12.401 by—

a. Removing from paragraph (a) “Commercial Items” and adding “Commercial Products and Commercial Services” in its place; and

b. Removing from paragraph (b) “commercial items” and adding “commercial products or commercial services” in its place.

12.402 [Amended]

62. Amend 12.402 by—

a. Removing from paragraph (a) “commercial item” and “commercial items” (twice) and adding “commercial product or commercial service” and “commercial products or commercial services” (twice) in their places, respectively;

b. Removing from paragraph (b) “complex commercial items or commercial items used” and adding “complex commercial products or commercial services, or commercial products or commercial services used” in its place; and

c. Removing from paragraph (c) “commercial items” and adding “commercial products or commercial services” in its place.

12.403 [Amended]

63. Amend section 12.403 by removing from paragraphs (a), (b), and (d) “commercial items” (four times) and adding “commercial products or commercial services” (four times) in their places, respectively.

12.404 [Amended]

64. Amend section 12.404 by removing from paragraph (b) “commercial items” and adding “commercial products” in its place.

65. Amend subpart 12.5 by removing from the heading “Commercial Items” and adding “Commercial Products, Commercial Services,” in its place.

12.500 [Amended]

66. Amend section 12.500 by—

a. Removing from paragraph (a)(1) and (a)(2) “commercial items” and adding “commercial products or commercial services”;

b. Removing from paragraph (a)(3) “of COTS items” and adding “of commercially available off-the-shelf (COTS) items” in its place; and

c. Removing from paragraph (b) “commercial items” and adding “commercial products or commercial services” in its place.

12.501 [Amended]

67. Amend section 12.501 by removing from paragraphs (a) and (b) “commercial items” and adding “commercial products or commercial services” in their places, respectively.

12.502 [Amended]

68. Amend section 12.502 by—

a. Removing from paragraph (a) “commercial items” and adding “commercial products or commercial services” in its place; and

b. Removing from paragraph (b) “commercial items or commercial components,”, “Commercial Items” (twice) and “commercial items or commercial components” and adding “commercial products or commercial services,”, “Commercial Products and Commercial Services” (twice) and “commercial products or commercial services” in their places, respectively.

12.503 [Amended]

69. Amend section 12.503 by—

a. Removing from the heading “commercial items” and adding “commercial products and commercial services” in its place;

b. Removing from paragraph (a) “commercial items” and adding “commercial products or commercial services” in its place; and

c. Removing from paragraphs (b) and (c) “commercial items” and adding “commercial products and commercial services” in their places, respectively.

12.504 [Amended]

70. Amend section 12.504 by—

a. Removing from the heading “commercial items” and adding “commercial products and commercial services” in its place;

b. Removing from paragraph (a) “commercial items or commercial components” and adding “commercial products or commercial services” in its place;

c. Removing from paragraph (b) “Subpart 22.3” and “commercial items or commercial components” and adding “subpart 22.3” and “commercial products or commercial services” in their places, respectively; and

d. Removing from paragraph (c) “commercial items or commercial components” and adding “commercial products or commercial services” in its place.

12.505 [Amended]

71. Amend section 12.505 by removing from the introductory text “commercial items” and adding “commercial products” in its place.

72. Amend subpart 12.6 by removing from the heading “Commercial Items” and adding “Commercial Products and Commercial Services” in its place.

73. Revise section 12.601 to read as follows:

12.601 General.

(a) This subpart provides optional procedures for—

(1) Streamlined evaluation of offers for commercial products or commercial services; and

(2) Streamlined solicitation of offers for commercial products or commercial services for use where appropriate.

(b) These procedures are intended to simplify the process of preparing and issuing solicitations, and evaluating offers for commercial products or commercial services consistent with customary commercial practices.

74. Amend section 12.602 by—

a. Removing from paragraph (a) “Commercial Items” and “commercial items” and adding “Commercial Products and Commercial Services” and “commercial products or commercial services” in their places; and

b. Revising paragraph (b) to read as follows:

12.602 Streamlined evaluation of offers.

* * * * *

(b) Offers shall be evaluated in accordance with the criteria contained in the solicitation. For many commercial products or commercial services, the criteria need not be more detailed than technical (capability of the item offered to meet the agency need), price, and past performance. Technical capability may be evaluated by how well the proposed products or services meet the Government requirement instead of predetermined subfactors. Solicitations for commercial products or commercial services do not have to contain subfactors for technical capability when the solicitation adequately describes the intended use of the commercial product or commercial service. A technical evaluation would normally include examination of such things as product or service literature, product samples (if requested), technical features, and warranty provisions. Past performance shall be evaluated in accordance with the procedures in section 13.106 or subpart 15.3, as applicable. The contracting officer shall ensure the instructions provided in the provision at 52.212-1, Instructions to Offerors—Commercial Products and Commercial Services, and the evaluation criteria provided in the provision at 52.212-2, Evaluation—Commercial Products and Commercial Services, are in agreement.

* * * * *

12.603 [Amended]

75. Amend section 12.603 by—

a. Removing from the heading “commercial items” and adding “commercial products or commercial services” in its place;

b. Removing from paragraph (a) “commercial items” and adding “commercial products or commercial services” in its place;

c. Removing from paragraph (c)(2)(i) “commercial items” and “Subpart 12.6” and adding “commercial products or commercial services” and “subpart 12.6” in their places, respectively;

d. Removing from paragraphs (c)(2)(viii), (c)(2)(ix), (c)(2)(x) and (c)(2)(xi) “Commercial Items” and adding “Commercial Products and Commercial Services” in their places, respectively; and

e. Removing from paragraph (c)(2)(xii) “Or Executive Orders-Commercial Items” and adding “or Executive Orders-Commercial Products and Commercial Services” in its place.

PART 13—SIMPLIFIED ACQUISITION PROCEDURES

13.000 [Amended]

76. Amend section 13.000 by removing from the text “and commercial items” and “of commercial items” (twice) and adding “commercial products, and commercial services” and “of commercial products and commercial services” (twice) in their places, respectively.

13.003 [Amended]

77. Amend section 13.003 by—

a. Removing from paragraph (c)(1)(ii) “commercial items” and “Subpart 13.5” and adding “commercial products or commercial services” and “subpart 13.5” in their places, respectively;

b. Removing from paragraph (c)(2) “commercial items” and “Subpart 13.5” and adding “commercial products and commercial services” and “subpart 13.5” in their places, respectively;

c. Removing from paragraph (g)(1) “threshold for” and “commercial items” and adding “threshold when acquiring” and “commercial products or commercial services” in their places, respectively; and

d. Removing from paragraph (g)(2) “commercial items” and “in Parts” and adding “commercial products or commercial services” and “in parts” in their places, respectively.

78. Amend section 13.005 by revising paragraph (b) to read as follows:

13.005 List of laws inapplicable to contracts and subcontracts at or below the simplified acquisition threshold.

* * * * *

(b) The Federal Acquisition Regulatory Council (FAR Council) will include any law enacted after October 13, 1994, that sets forth policies, procedures, requirements, or restrictions for the acquisition of property or services, on the list set forth in paragraph (a) of this section. The FAR Council may make exceptions when it determines in writing that it is in the best interest of the Government that the enactment should apply to contracts or subcontracts not greater than the simplified acquisition threshold.

* * * * *

13.105 [Amended]

79. Amend section 13.105 by removing from paragraph (b) “commercial items” and adding “commercial products or commercial services,” in its place.

13.106-1 [Amended]

80. Amend section 13.106-1 by removing from paragraph (b)(2) “commercial items” and adding “commercial products and commercial services” in its place.

13.302-1 [Amended]

81. Amend section 13.302-1 by removing from paragraph (a) “commercial items” and adding “commercial products and commercial services” in its place.

13.302-4 [Amended]

82. Amend section 13.302-4 by—

a. Removing from paragraph (a)(1) “commercial items” and adding “commercial products and commercial services” in its place; and

b. Removing from paragraph (a)(2) “commercial items” and adding “commercial products or commercial services” in its place.

13.302-5 [Amended]

83. Amend section 13.302-5 by removing from paragraph (d)(1) “Commercial Items” and “commercial items” and adding “Commercial Products and Commercial Services” and “commercial products or commercial services” in their places, respectively.

13.303-5 [Amended]

84. Amend section 13.303-5 by removing from paragraph (b)(2) “commercial item” and “Subpart 13.5” and adding “commercial product and commercial service” and “subpart 13.5” in their places, respectively.

13.303-8 [Amended]

85. Amend section 13.303-8 by removing “Commercial Items” and adding “Commercial Products and Commercial Services” in its place.

13.307 [Amended]

86. Amend section 13.307 by—

a. Removing from paragraph (a) “Commercial items” and “Commercial Items” and adding “Commercial products and commercial services” and “Commercial Products and Commercial Services” in their places, respectively;

b. Removing from paragraph (b) “commercial items” and adding “commercial products and commercial services” in its place; and

c. Removing from paragraph (c) “commercial items” and adding “commercial products and commercial services” in its place.

87. Amend subpart 13.5 by removing from the heading “Commercial Items” and adding “Commercial Products and Commercial Services” in its place.

13.500 [Amended]

88. Amend section 13.500 by—

a. Removing from paragraph (a) “commercial items” and “commercial item acquisitions” and adding “commercial products or commercial services” and “commercial acquisitions” in their places, respectively;

b. Removing from paragraph (b) “commercial items” and adding “commercial products and commercial services” in its place; and

c. Removing from paragraphs (c)(1) and (2) “commercial items” and adding “commercial products or commercial services” in their places, respectively.

PART 14—SEALED BIDDING

14.201-1 [Amended]

89. Amend section 14.201-1 by removing from paragraph (c) “(see 4.1202(b)) or for acquisitions of commercial items” and adding “(see 4.1202(b)) or, for acquisitions of commercial products and commercial services” in its place.

PART 15—CONTRACTING BY NEGOTIATION

15.204-1 [Amended]

90. Amend section 15.204-1 by removing from paragraph (b) “commercial items” and adding “commercial products and commercial services” in its place.

15.209 [Amended]

91. Amend section 15.209 by removing from paragraph (b)(1)(iii) “commercial items” and adding “commercial products or commercial services” in its place.

92. Amend section 15.306 by revising paragraph (e)(2) to read as follows:

15.306 Exchanges with offerors after receipt of proposals.

* * * * *

(e) * * *

(2) Reveals an offeror's technical solution, including—

(i) Unique technology;

(ii) Innovative and unique uses of commercial products or commercial services; or

(iii) Any information that would compromise an offeror's intellectual property to another offeror;

* * * * *

15.401 [Amended]

93. Amend section 15.401 by removing from the defined term “Subcontract”, “commercial items” and “41 U.S.C. 3501(a)(3)” and adding “commercial products or commercial services” and “41 U.S.C. 3501(a)(2)” in their places, respectively.

94. Amend section 15.403-1 by—

a. Removing from paragraph (b)(3) “commercial item” and “subsection” and adding “commercial product or commercial service” and “section” in their places, respectively;

b. Removing from paragraph (b)(5) “commercial items” and “subsection” and adding “commercial products or commercial services” and “section” in their places, respectively;

c. Revising the paragraph heading of paragraph (c)(3) and revising paragraph (c)(3)(i);

d. Removing from paragraphs (c)(3)(ii)(A) and (B) “commercial items” and adding “commercial services” in their places, respectively;

e. Revising paragraph (c)(3)(iii) introductory text;

f. Removing from paragraphs (c)(3)(iii)(A), (B), and (C) “commercial item” and adding “commercial product” in their places, respectively; and

g. Removing from paragraph (c)(3)(iv) “for noncommercial supplies or services treated as commercial items” and adding “for other than commercial products or services treated as commercial products or commercial services” in its place.

The revised text reads as follows:

15.403-1 Prohibition on obtaining certified cost or pricing data (10 U.S.C. 2306a and 41 U.S.C. chapter 35).

* * * * *

(c) * * *

(3) Commercial products and commercial services. (i) Any acquisition that the contracting officer determines meets the commercial product or commercial service definition in 2.101, or any modification, as defined in paragraph (3)(i) of the commercial product definition, that does not change a commercial product to other than commercial, is exempt from the requirement for certified cost or pricing data. If the contracting officer determines that a product or service claimed to be commercial is not, and that no other exception or waiver applies (e.g., the acquisition is not based on adequate price competition; the acquisition is not based on prices set by law or regulation; and the acquisition exceeds the threshold for the submission of certified cost or pricing data at 15.403-4(a)(1)), the contracting officer shall require submission of certified cost or pricing data.

* * * * *

(iii) The following requirements apply to minor modifications defined in paragraph (3)(ii) of the definition of a commercial product at 2.101 that do not change the commercial product to other than commercial:

* * * * *

15.403-3 [Amended]

95. Amend section 15.403-3 by—

a. Removing from the heading of paragraph (c) “Commercial items” and adding “Commercial products and commercial services” in its place;

b. Removing from paragraph (c)(1) “commercial item” and adding “commercial product or commercial service” in its place;

c. Removing from paragraph (c)(2) “commercial items” and “commercial items” and adding “commercial products or commercial services” and “commercial products or commercial services” in their places, respectively;

d. Removing from paragraph (c)(2)(ii) “commercial items” and adding “commercial products or commercial services” in its place; and

e. Removing from paragraph (c)(2)(iii) “commercial items” and adding “commercial products and commercial services” in its place.

15.404-1 [Amended]

96. Amend section 15.404-1 by—

a. Removing from paragraph (a)(4) “for commercial or non-commercial items”;

b. Removing from paragraph (b) “for commercial or non-commercial items”;

c. Removing from the last sentence in paragraph (b)(1) “item”;

d. Removing from paragraph (b)(2)(ii) introductory text “commercial items including those “of a type” or requiring minor modifications” and adding “commercial products or commercial services including those “of a type”, or requiring minor modifications for commercial products” in its place;

e. Removing from paragraphs (b)(2)(ii)(C) and (e)(3) “commercial items that are “of a type” or requiring minor modifications” and adding “commercial products or commercial services that are “of a type”, or requiring minor modifications for commercial products” in their places, respectively; and

f. Removing from paragraph (f)(2) “commercial items” and adding “commercial products” in its place.

15.404-2 [Amended]

97. Amend section 15.404-2 by removing from paragraph (a)(2)(iii)(E) “for an item” and “commercial item” and adding “for a product or service” and “commercial product or commercial service” in their places, respectively.

15.407-2 [Amended]

98. Amend section 15.407-2 by removing from paragraph (e)(1) “commercial items” and adding “commercial products, commercial services” in its place.

15.408 [Amended]

99. Amend section 15.408 by—

a. Removing from paragraph (f)(1)(v) “commercial items” and adding “commercial products and commercial services” in its place;

b. Removing from paragraphs (n)(2)(i)(B)(2)(iii), (iv), and (vi) “commercial item” and adding “commercial product or commercial service” in their places, respectively;

c. Removing from the Table 15-2, “I. General Instructions” and “II. Cost Elements” and adding “I. General Instructions” and “II. Cost Elements” in their places, respectively;

d. Removing from the Table 15-2, in paragraph (II)(A)(2) in the second sentence “commercial items” and adding “commercial products or commercial services” in its place;

e. Removing from the Table 15-2, in paragraph (II)(A) (2) in the ninth sentence “commercial items” and adding “commercial products” in its place; and

f. Removing from the Table 15-2, “III. Formats for Submission of Line Item Summaries” and adding “III. Formats for Submission of Line Item Summaries” in its place.

15.506 [Amended]

100. Amend section 15.506 by removing from paragraph (d)(5) “commercial items, the make and model of the item” and adding “commercial products, the make and model of the product” in its place.

15.601 [Amended]

101. Amend section 15.601 by revising the defined term “Commercial item offer” to read “Commercial product or service offer”, and removing from that defined term “commercial item” and “commercial items” and adding “commercial product or commercial service” and “commercial products or commercial services” in their places, respectively.

15.603 [Amended]

102. Amend section 15.603 by removing from paragraph (b) “commercial item” and adding “commercial product or commercial service” in its place.

PART 16—TYPES OF CONTRACTS

103. Amend section 16.001 by adding in alphabetical order, the definition “Established price” to read as follows:

16.001 Definitions.

* * * * *

Established price means a price that—

(1) Is an established catalog or market price for a commercial product sold in substantial quantities to the general public; and

(2) Is the net price after applying any standard trade discounts offered by the contractor.

* * * * *

16.201 [Amended]

104. Amend section 16.201 by removing from paragraph (a) “commercial items” and adding “commercial products and commercial services” in its place.

16.202-2 [Amended]

105. Amend section 16.202-2 by removing from the introductory text “commercial items” and adding “commercial products or commercial services” in its place.

16.301-3 [Amended]

106. Amend section 16.301-3 by removing from paragraph (b) “commercial items” and adding “commercial products and commercial services” in its place.

16.307 [Amended]

107. Amend section 16.307 by removing from paragraph (a)(1) “commercial item” and adding “commercial product or commercial service” in its place.

16.506 [Amended]

108. Amend section 16.506 by removing from paragraph (h) “commercial items” and adding “commercial products or commercial services” in its place.

109. Amend section 16.601 by—

a. Removing from paragraph (c)(2)(ii) “noncommercial items” and adding “other than commercial products or commercial services” in its place;

b. Removing from paragraph (c)(2)(iv) “the definition of commercial items at 2.101” and adding “the definition of “commercial service” at 2.101” in its place;

c. Removing from paragraph (d)(2) “commercial items” and adding “commercial products and commercial services” in its place; and

d. Revising the first sentence of paragraph (f)(1) and revising paragraphs (f)(2) and (f)(3).

The revised text reads as follows:

16.601 Time-and-materials contracts.

* * * * *

(f) * * *

(1) The contracting officer shall insert the provision at 52.216-29, Time-and-Materials/Labor-Hour Proposal Requirements—Other Than Commercial Acquisition With Adequate Price Competition, in solicitations contemplating use of a time-and-materials or labor-hour type of contract for the acquisition of other than commercial products or commercial services, if the price is expected to be based on adequate price competition. * * *

(2) The contracting officer shall insert the provision at 52.216-30, Time-and-Materials/Labor-Hour Proposal Requirements—Other Than Commercial Acquisition without Adequate Price Competition, in solicitations for the acquisition of other than commercial products or commercial services contemplating use of a time-and-materials or labor-hour type of contract if the price is not expected to be based on adequate price competition.

(3) The contracting officer shall insert the provision at 52.216-31, Time-and-Materials/Labor-Hour Proposal Requirements—Commercial Acquisition, in solicitations contemplating use of a commercial time-and-materials or labor-hour contract.

PART 18—EMERGENCY ACQUISITIONS

18.201 [Amended]

110. Amend section 18.201 by removing from paragraph (e) “commercial items” and adding “commercial products and commercial services” in its place.

18.202 [Amended]

111. Amend section 18.202 by—

a. Removing from paragraph (c) “commercial items” and adding “commercial products or commercial services” in its place; and

b. Removing from paragraph (d) “commercial items” and adding “commercial products and commercial services” in its place.

PART 19—SMALL BUSINESS PROGRAMS

19.304 [Amended]

112. Amend section 19.304 by removing from paragraph (b) “Certifications-Commercial Items” and adding “Certifications-Commercial Products and Commercial Services” in its place.

19.403 [Amended]

113. Amend section 19.403 by removing from paragraph (a) “Pub. L.” and “commercial items” and adding “Public Law” and “commercial products or commercial services” in their places, respectively.

19.701 [Amended]

114. Amend section 19.701 by removing from the defined term “Commercial plan” “commercial items” and adding “commercial products and performance of commercial services” in its place.

19.704 [Amended]

115. Amend section 19.704 by removing from paragraph (d) “commercial items” and “commercial item” and adding “commercial products and commercial services” and “commercial product or commercial service” in their places, respectively.

PART 22—APPLICATION OF LABOR LAWS TO GOVERNMENT ACQUISITIONS

22.305 [Amended]

116. Amend section 22.305 by removing from paragraph (b) “commercial items” and adding “commercial products and commercial services” in its place.

22.604-1 [Amended]

117. Amend section 22.604-1 by removing from paragraph (a) “commercial items” and adding “commercial products and commercial services” in its place.

22.1302 [Amended]

118. Amend section 22.1302 by removing from paragraph (b) “commercial items” and adding “commercial products or commercial services,” in its place.

22.1310 [Amended]

119. Amend section 22.1310 by removing from paragraph (c) “commercial items” and adding “commercial products or commercial services” in its place.

22.1505 [Amended]

120. Amend section 22.1505 by removing from paragraph (a) “commercial items” and “Certifications-Commercial Items” and adding “commercial products or commercial services” and “Certifications-Commercial Products and Commercial Services” in their places, respectively.

22.1605 [Amended]

121. Amend section 22.1605 by removing from paragraph (a) “commercial items” and adding “commercial products, commercial services,” in its place.

22.1801 [Amended]

122. Amend section 22.1801 by removing from the defined term “Commercially available off-the-shelf (COTS) item” in paragraph (1)(i) “commercial item (as defined in paragraph (1) of the definition at 2.101” and adding “commercial product (as defined in paragraph (1) of the definition of “commercial product” at 2.101” in its place.

22.1802 [Amended]

123. Amend section 22.1802 by removing from paragraph (b)(4)(i) “Commercial or noncommercial services” and adding “Services” in its place.

22.1803 [Amended]

124. Amend section 22.1803 by removing from paragraph (c)(2) “definition of “commercial item” at 2.101” and adding “definition of “commercial product” at 2.101” in its place.

PART 23—ENVIRONMENT, ENERGY AND WATER EFFICIENCY, RENEWABLE ENERGY TECHNOLOGIES, OCCUPATIONAL SAFETY, AND DRUG-FREE WORKPLACE

23.501 [Amended]

125. Amend section 23.501 by removing from paragraph (b) “commercial items” and adding “commercial products and commercial services” in its place.

PART 25—FOREIGN ACQUISITION

25.103 [Amended]

126. Amend section 25.103 by removing from paragraph (e) “commercial item”, “commercial item” and “Section” and adding “commercial product”, “commercial product” and “section” in their places, respectively.

25.202 [Amended]

127. Amend section 25.202 by removing from paragraph (a)(4) “commercial item”, “commercial item” and “Section” and adding “commercial product”, “commercial product”, and “section” in their places, respectively.

25.703-2 [Amended]

128. Amend section 25.703-2 by—

a. Removing from paragraph (b) “of this subsection” and adding “of this section” in its place; and

b. Removing from paragraph (b)(1) “commercial items” and adding “commercial products and commercial services” in its place.

25.1001 [Amended]

129. Amend section 25.1001 by removing from paragraph (a) “Executive Orders-Commercial Items” and adding “Executive Orders-Commercial Products and Commercial Services” in its place.

25.1101 [Amended]

130. Amend section 25.1101 by—

a. Removing from paragraph (a)(1)(i) “Subpart” and adding “subpart” in its place;

b. Removing from paragraph (a)(1)(ii) “commercial item” and adding “commercial product” in its place; and

c. Removing from paragraph (b)(1)(i)(B) “commercial item” and adding “commercial product” in its place.

131. Amend section 25.1103 by revising paragraph (d) to read as follows:

25.1103 Other provisions and clauses.

* * * * *

(d) The contracting officer shall include in each solicitation for the acquisition of other than commercial products or commercial services the provision at 52.225-20, Prohibition on Conducting Restricted Business Operations in Sudan—Certification.

* * * * *

PART 26—OTHER SOCIOECONOMIC PROGRAMS

26.206 [Amended]

132. Amend section 26.206 by removing from paragraph (a) “commercial items” and adding “commercial products and commercial services” in its place.

PART 27—PATENTS, DATA, AND COPYRIGHTS

27.102 [Amended]

133. Amend section 27.102 by removing from paragraph (c) “commercial items” and adding “commercial products and commercial services” in its place.

27.201-1 [Amended]

134. Amend section 27.201-1 by removing from paragraph (d) “commercial items” and adding “commercial products or commercial services” in its place, and by removing “FAR”.

27.201-2 [Amended]

135. Amend section 27.201-2 by—

a. Removing from paragraph (c)(1) “commercial items” and adding “commercial products or the provision of commercial services” in its place; and

b. Removing from paragraph (c)(2)(i) “commercial items” and adding “commercial products or the provision of services that are not commercial services” in its place.

PART 28—BONDS AND INSURANCE

28.106-4 [Amended]

136. Amend section 28.106-4 by removing from paragraph (b) “Section”, “Pub. L.” (twice), “Sections”, and “commercial items as defined in Subpart” and adding “section”, “Public Law” (twice), “sections”, “commercial products or commercial services as defined in subpart” in their places, respectively.

28.106-6 [Amended]

137. Amend section 28.106-6 by removing from paragraph (d) “Pub. L.” (twice), “Sections”, and “commercial items as defined in Subpart” and adding “Public Law” (twice), “sections”, and “commercial products or commercial services as defined in subpart” in their places, respectively.

PART 29—TAXES

29.402-3 [Amended]

138. Amend section 29.402-3 by removing from paragraph (a) “commercial items” and adding “commercial products and commercial services” in its place.

PART 30—COST ACCOUNTING STANDARDS ADMINISTRATION

30.201-5 [Amended]

139. Amend section 30.201-5 by removing from the introductory text of paragraph (b)(1) “$15,000,000” and removing from (b)(1)(i) “commercial items” and adding “$15 million” and “commercial products or commercial services” in their places, respectively.

PART 31—CONTRACT COST PRINCIPLES AND PROCEDURES

31.205-26 [Amended]

140. Amend section 31.205-26 by removing from paragraph (f) “commercial item” and “subsection is transferred” and adding “commercial product or commercial service” and “section is sold or transferred” in their places, respectively.

PART 32—CONTRACT FINANCING

32.000 [Amended]

141. Amend section 32.000 by removing from paragraph (g) “commercial items” and adding “commercial products and commercial services” in its place.

32.002 [Amended]

142. Amend section 32.002 by—

a. Removing from paragraph (b) “Commercial Item” and “commercial items” and adding “Commercial Product and Commercial Service” and “commercial products and commercial services” in their places, respectively;

b. Removing from paragraph (c)(1) “Non-Commercial Item Purchase Financing” and adding “Financing for Other Than a Commercial Purchase” in its place; and

c. Removing from paragraph (c)(2) “For Non-Commercial Items” and adding “for Other Than Commercial Acquisitions” in its place.

32.005 [Amended]

143. Amend section 32.005 by removing from paragraph (c) “for Non-Commercial Items” and adding “for Other Than Commercial Acquisitions” in its place.

144. Amend subpart 32.1 by removing from the heading “Non-Commercial Item Purchase Financing” and adding “Financing for Other Than a Commercial Purchase” in its place.

32.100 [Amended]

145. Amend section 32.100 by removing from the text “commercial items” and adding “commercial products or commercial services” in its place.

32.110 [Amended]

146. Amend section 32.110 by removing from paragraph (a) “item”.

147. Amend section 32.112 by removing from the heading “contracts for noncommercial items” and adding “contracts other than for commercial products and commercial services” in its place.

32.112-2 [Amended]

148. Amend section 32.112-2 by removing from paragraph (a) “Section”, “Pub. L.” (twice), “Sections” and “contract for a noncommercial item” and adding “section”, “Public Law” (twice), “sections”, and “contract other than for a commercial product or commercial service” in their places, respectively.

149. Amend subpart 32.2 by removing from the heading “Commercial Item” and adding “Commercial Product and Commercial Service” in its place.

32.201 [Amended]

150. Amend section 32.201 by removing from the text “commercial items” and adding “commercial products or commercial services” in its place.

32.202-1 [Amended]

151. Amend section 32.202-1 by—

a. Removing from paragraph (a) “commercial items” and adding “commercial products or commercial services” in its place; and

b. Removing from paragraph (c) “non-commercial”, and “non-commercial” (twice) and adding “other than commercial”, and “other than commercial” (twice) in their places, respectively.

32.202-2 [Amended]

152. Amend section 32.202-2 by—

a. Removing from the heading “commercial item” and adding “commercial product and commercial service” in its place; and

b. Removing from the defined term “Commercial advance payment” “subsection” and “for Non-Commercial items” and adding “section” and “for Other Than Commercial Acquisitions”, in their places, respectively.

32.202-4 [Amended]

153. Amend section 32.202-4 by removing from paragraph (a)(2) “Commercial Items” and adding “Commercial Products and Commercial Services” in its place.

32.206 [Amended]

154. Amend section 32.206 by—

a. Removing from paragraph (a) “Commercial Items” and adding “Commercial Products and Commercial Services” in its place; and

b. Removing from paragraphs (b)(1)(v), (b)(2), and (c)(3)(ii) “Commercial Items” and adding “Commercial Products and Commercial Services” in their places, respectively;

c. Removing from paragraph (f) “non-commercial” and adding “other than commercial” in its place;

d. Removing from paragraph (g) “commercial items” and “Commercial Items” and adding “commercial products and commercial services” and “Commercial Products and Commercial Services” in their places, respectively; and

e. Removing from paragraph (g)(2) “Commercial Items” and adding “Commercial Products and Commercial Services” in its place.

155. Amend subpart 32.4 by removing from the heading “Non-Commercial Items” and adding “Other Than Commercial Acquisitions” in its place.

32.504 [Amended]

156. Amend section 32.504 by—

a. Removing from paragraph (a) “item”;

b. Removing from paragraph (b) “commercial item” and adding “commercial product or commercial service” in its place; and

c. Removing from paragraph (g) “commercial item” and adding “commercial product or commercial service” in its place.

32.601 [Amended]

157. Amend section 32.601 by removing from paragraphs (b)(3) and (b)(10) “commercial item financing” and adding “financing of commercial products or commercial services” in their places, respectively.

32.904 [Amended]

158. Amend section 32.904 by removing from paragraph (b)(1)(ii)(B)(4) “commercial item, including a brand-name commercial item for” and adding “commercial product or commercial service, including a brand-name commercial product for” in its place.

32.908 [Amended]

159. Amend section 32.908 by—

a. Removing from paragraph (c) “Commercial Items” and adding “Commercial Products and Commercial Services” in its place; and

b. Removing from paragraph (c)(1) “commercial item” and “commercial item for” and adding “commercial product or commercial service” and “commercial product for” in their places, respectively.

PART 37—SERVICE CONTRACTING

37.601 [Amended]

160. Amend section 37.601 by removing paragraph (c).

PART 38—FEDERAL SUPPLY SCHEDULE CONTRACTING

38.101 [Amended]

161. Amend section 38.101 by removing from paragraph (a) “commercial supplies and services” and adding “commercial supplies and commercial services” in its place.

PART 39—ACQUISITION OF INFORMATION TECHNOLOGY

39.203 [Amended]

162. Amend section 39.203 by removing from paragraph (c)(1) “commercial items” and adding “commercial products and commercial services” in its place.

39.204 [Amended]

163. Amend section 39.204 by removing from paragraph (e)(2)(ii) “commercial items” and “service available” and adding “commercial products and commercial services” and “services available” in their places, respectively.

PART 42—CONTRACT ADMINISTRATION AND AUDIT SERVICES

42.709-0 [Amended]

164. Amend section 42.709-0 by removing from paragraph (b) “commercial items” and adding “commercial products or commercial services” in its place.

42.709-6 [Amended]

165. Amend section 42.709-6 by removing from the text “commercial items” and adding “commercial products or commercial services” in its place.

42.1305 [Amended]

166. Amend section 42.1305 by removing from paragraph (c) “modified-commercial items” (twice) and adding “modified-commercial products” (twice) in their places, respectively.

PART 44—SUBCONTRACTING POLICIES AND PROCEDURES

44.000 [Amended]

167. Amend section 44.000 by removing from paragraph (b) “commercial items” and adding “commercial products or commercial services” in its place.

44.302 [Amended]

168. Amend section 44.302 by removing from paragraph (a) “commercial items” and “Part 12” and adding “commercial products and commercial services” and “part 12” in their places, respectively.

44.303 [Amended]

169. Amend section 44.303 by removing from the introductory text “commercial items” and adding “commercial products and commercial services” in its place.

170. Amend subpart 44.4 by removing from the heading “Commercial Items and Commercial Components” and adding “Commercial Products and Commercial Services” in its place.

44.400 [Amended]

171. Amend section 44.400 by removing from the text “commercial items or commercial components” and adding “commercial products, including commercial components, or commercial services” in its place.

44.402 [Amended]

172. Amend section 44.402 by—

a. Removing from paragraph (a)(1) “commercial items” and adding “commercial products or commercial services,” in its place;

b. Removing from paragraph (a)(2) and (a)(2)(i) “commercial items or commercial components” and adding “commercial products or commercial services” in their places, respectively;

c. Removing from paragraph (b) “Commercial Items” and “commercial items or commercial components” and adding “Commercial Products and Commercial Services” and “commercial products or commercial services” in their places, respectively; and

d. Removing from paragraph (c) “commercial items” and adding “commercial products and commercial services” in its place.

44.403 [Amended]

173. Amend section 44.403 by removing from the text “Commercial Items” and “commercial items” and adding “Commercial Products and Commercial Services” and “commercial products or commercial services” in their places, respectively.

PART 46—QUALITY ASSURANCE

46.102 [Amended]

174. Amend section 46.102 by—

a. Removing from paragraph (b) “services tendered” and adding “services (including commercial services tendered” in its place; and

b. Removing from paragraph (f) “commercial items shall” and “commercial item” and adding “commercial products” and “commercial product” in their places, respectively.

175. Amend section 46.202-1 by revising the section including the section heading to read as follows:

46.202-1 Contracts for commercial products and commercial services.

When acquiring commercial products (see part 12), the Government shall rely on contractors' existing quality assurance systems as a substitute for Government inspection and testing before tender for acceptance unless customary market practices for the commercial product being acquired include in-process inspection. Any in-process inspection by the Government shall be conducted in a manner consistent with commercial practice. The Government shall rely on the contractor to accomplish all inspection and testing needed to ensure that commercial services acquired conform to contract requirements before they are tendered to the Government.

46.317 [Amended]

176. Amend section 46.317 by removing from paragraph (b)(1) “Commercial items” and adding “Commercial products and commercial services” in its place.

177. Amend section 46.706 by—

a. Removing from paragraph (b)(1)(iii) “commercial items” and adding “commercial products and commercial services” in its place; and

b. Revising paragraph (b)(5).

The revision reads as follows:

46.706 Warranty terms and conditions.

* * * * *

(b) * * *

(5) Markings. (i) The packaging and preservation requirements of the contract shall require the contractor to stamp or mark the supplies delivered or otherwise furnish notice with the supplies of the existence of the warranty. The purpose of the markings or notice is to inform Government personnel who store, stock, or use the supplies that the supplies are under warranty. Markings may be brief but should include—

(A) A brief statement that a warranty exists;

(B) The substance of the warranty;

(C) Its duration; and

(D) Who to notify if the supplies are found to be defective.

(ii) For commercial products (see 46.709), the contractor's trade practice in warranty marking is acceptable if sufficient information is presented for supply personnel and users to identify warranted supplies.

* * * * *

46.709 [Amended]

178. Amend section 46.709 by removing from section heading and the section “commercial items” and adding “commercial products and commercial services” in their places, respectively.

46.710 [Amended]

179. Amend section 46.710 by removing from the introductory text “commercial items” and adding “commercial products and commercial services” in its place.

46.801 [Amended]

180. Amend section 46.801 by removing from paragraph (a) “commercial items” and adding “commercial products and commercial services” in its place.

PART 47—TRANSPORTATION

47.405 [Amended]

181. Amend section 47.405 by removing the quote marks from the first sentence (twice), and by removing in the second sentence “commercial items” and adding “commercial products” in its place.

47.504 [Amended]

182. Amend section 47.504 by removing from paragraph (d) “commercial items or commercial components” and adding “commercial products, including commercial components, or commercial services” in its place; and removing from paragraph (d)(4) “commercial items” and adding “commercial products” in its place.

47.507 [Amended]

183. Amend section 47.507 by removing from paragraph (a)(3) “Alternate II” and “commercial items” and adding “Alternate II” and “commercial products” in their places, respectively.

PART 49—TERMINATION OF CONTRACTS

49.002 [Amended]

184. Amend section 49.002 by removing from paragraph (a)(2) “commercial item”, “commercial items” (twice), and “Commercial Items” and adding “commercial product and commercial service”, “commercial products and commercial services” (twice) and “Commercial Products and Commercial Services” in their places, respectively.

49.501 [Amended]

185. Amend section 49.501 by removing from the text “Commercial Items” and adding “Commercial Products and Commercial Services” in its place.

PART 52—SOLICITATION PROVISIONS AND CONTRACT CLAUSES

186. Amend section 52.203-6 by revising the date of Alternate I and removing from paragraph (b) of Alternate I “commercial items” and “commercial item(s)” and adding “commercial products or commercial services” and “commercial product(s) and commercial service(s)” in their places, respectively. The revised text reads as follows:

52.203-6 Restrictions on Subcontractor Sales to the Government.

* * * * *

Alternate I (DATE). * * *

* * * * *

187. Amend section 52.203-13 by revising the date of the clause and removing from paragraph (c) “commercial item” and adding “commercial product or commercial service” in its place. The revised text reads as follows:

52.203-13 Contractor Code of Business Ethics and Conduct.

* * * * *

Contractor Code of Business Ethics and Conduct (Date)

* * * * *

188. Amend section 52.203-14 by revising the date of the clause and removing from paragraph (d)(1) “commercial item” and adding “commercial product or commercial service” in its place. The revised text reads as follows:

52.203-14 Display of Hotline Poster(s).

* * * * *

Display of Hotline Poster(s) (Date)

* * * * *

189. Amend section 52.204-8 by revising the date of the provision and removing from paragraph (c)(1)(xv) “commercial items” and adding “commercial products or commercial services” in its place. The revised text reads as follows:

52.204-8 Annual Representations and Certifications.

* * * * *

Annual Representations and Certifications (Date)

* * * * *

190. Amend section 52.204-21 by revising the date of the clause and removing from paragraph (c) “commercial items” and adding “commercial products or commercial services” in its place. The revised text reads as follows:

52.204-21 Basic Safeguarding of Covered Contractor Information Systems.

* * * * *

Basic Safeguarding of Covered Contractor Information Systems (Date)

* * * * *

191. Amend section 52.204-23 by revising the date of the clause and removing from paragraph (d) “commercial items” and adding “commercial products or commercial services” in its place. The revised text reads as follows:

52.204-23 Prohibition on Contracting for Hardware, Software, and Services Developed or Provided by Kaspersky Lab and Other Covered Entities.

* * * * *

Prohibition on Contracting for Hardware, Software, and Services Developed or Provided by Kaspersky Lab and Other Covered Entities (Date)

* * * * *

192. Amend section 52.204-24 by revising the date of the clause and removing from the introductory paragraph “Commercial Items” and adding “Commercial Products and Commercial Services” in its place. The revised text reads as follows:

52.204-24 Representation Regarding Certain Telecommunications and Video Surveillance Services or Equipment.

* * * * *

Representation Regarding Certain Telecommunications and Video Surveillance Services or Equipment (Date)

* * * * *

193. Amend section 52.204-25 by revising the date of the clause and removing from paragraph (e) “commercial items” and adding “commercial products or commercial services” in its place. The revised text reads as follows:

52.204-25 Prohibition on Contracting for Certain Telecommunications and Video Surveillance Services or Equipment.

* * * * *

Prohibition on Contracting for Certain Telecommunications and Video Surveillance Services or Equipment (Date)

* * * * *

194. Amend section 52.209-6 by—

a. Revising the date of the clause;

b. Revising the defined term “Commercially available off-the-shelf (COTS)” to read “Commercially available off-the-shelf (COTS) item”, and removing “item, as used” and adding “, as used” in its place;

c. Removing from paragraph (a)(1)(i) “commercial item (as defined in paragraph (1) of the definition in” and adding “commercial product (as defined in paragraph (1) of the definition of “commercial product” in” in its place; and

d. Removing from paragraph (e) “commercial items” and adding “commercial products or commercial services” in its place.

The revised text reads as follows:

52.209-6 Protecting the Government's Interest When Subcontracting With Contractors Debarred, Suspended, or Proposed for Debarment.

* * * * *

Protecting the Government's Interest When Subcontracting With Contractors Debarred, Suspended, or Proposed for Debarment (Date)

* * * * *

195. Amend section 52.209-13 by revising the date of the provision and removing from paragraph (a) “commercial items as defined at FAR 2.101” and adding “commercial products and commercial services as defined in Federal Acquisition Regulation 2.101” in its place.

The revised text reads as follows:

52.209-13 Violation of Arms Control Treaties or Agreements—Certification.

* * * * *

Violation of Arms Control Treaties or Agreements—Certification (Date)

* * * * *

196. Amend section 52.210-1 by—

a. Revising the date of the clause;

b. Revising paragraph (a);

c. Revising the introductory text of paragraph (b);

d. Removing from the introductory text of paragraph (b)(1) “commercial items or, to the extent commercial items” and adding “commercial products, commercial services, or, to the extent commercial products” in its place; and

e. Removing from paragraph (b)(2) “commercial items” and adding “commercial products, commercial services,” in its place.

The revised text reads as follows:

52.210-1 Market Research.

* * * * *

Market Research (Date)

(a) Definition. As used in this clause—

Commercial product, commercial service, and nondevelopmental item have the meaning contained in Federal Acquisition Regulation (FAR) 2.101.

(b) Before awarding subcontracts for other than commercial acquisitions, where the subcontracts are over the simplified acquisition threshold, as defined in FAR 2.101 on the date of subcontract award, the Contractor shall conduct market research to—

* * * * *

197. Amend section 52.212-1 by—

a. Removing from the section and clause headings “Commercial Items” and adding “Commercial Products and Commercial Services” in its place;

b. Revising the date of the provision;

c. Removing from paragraph (b)(8) “FAR 52.212-3” and adding “Federal Acquisition Regulation (FAR) 52.212-3” in its place;

d. Removing from paragraph (e) “subpart 4.10 of the Federal Acquisition Regulation” and “commercial items” and adding “FAR subpart 4.10” and “commercial products or commercial services” in their places, respectively; and

e. Removing from paragraph (l)(5) “commercial items, the make and model of the item” and adding “commercial products, the make and model of the product” in its place.

The revised text reads as follows:

52.212-1 Instructions to Offerors—Commercial Products and Commercial Services.

* * * * *

Instructions to Offerors—Commercial products and Commercial Services (Date)

* * * * *

198. Amend section 52.212-2 by—

a. Removing from the section and clause headings “Commercial Items” and adding “Commercial Products and Commercial Services” in their places; and

b. Revising the date of the provision.

The revised text reads as follows:

52.212-2 Evaluation—Commercial Products and Commercial Services.

* * * * *

Evaluation—Commercial Products and Commercial Services (Date)

* * * * *

199. Amend section 52.212-3 by—

a. Removing from the section and clause headings “Commercial Items” and adding “Commercial Products and Commercial Services” in their places;

b. Revising the date of the provision; and

c. Removing from paragraph (b)(2) “Commercial Items” and adding “Commercial Products and Commercial Services” in its place.

The revised text reads as follows:

52.212-3 Offeror Representations and Certifications—Commercial Products and Commercial Services.

* * * * *

Offeror Representations and Certifications—Commercial Products and Commercial Services (Date)

* * * * *

200. Amend section 52.212-4 by—

a. Removing from the section and clause headings “Commercial Items” and adding “Commercial Products and Commercial Services” in their places;

b. Revising the date of the clause;

c. Removing from paragraph (d) “FAR” and adding “Federal Acquisition Regulation (FAR)” in its place;

d. Removing from paragraph (i)(6)(vii) “32.608-2 of the Federal Acquisition Regulation” and adding “FAR 32.608-2” in its place;

e. Revising the date of Alternate I;

f. Removing from the introductory text of paragraph (i)(1)(ii)(A) of Alternate I “commercial item at” and adding “commercial product at FAR” in its place; and

g. Removing from paragraph (i)(6)(vii) of Alternate I “32.608-2 of the Federal Acquisition Regulation” and adding “FAR 32.608-2” in its place;

The revised text reads as follows:

52.212-4 Contract Terms and Conditions—Commercial Products and Commercial Services.

* * * * *

Contract Terms and Conditions—Commercial Products and Commercial Services (Date)

* * * * *

Alternate I (Date). * * *

* * * * *

201. Amend section 52.212-5 by—

a. Removing from the section and clause headings “Commercial Items” and adding “Commercial Products and Commercial Services” in its place;

b. Revising the date of the clause;

c. Removing from the introductory text of paragraph (a) “commercial items” and adding “commercial products and commercial services” in its place;

d. Removing from paragraph (a)(2) “(JUL 2018)” and adding “(Date)” in its place;

e. Removing from paragraph (a)(3) “(AUG 2020)” and adding “(Date)” in its place;

f. Removing from the introductory text of paragraph (b) “commercial items” and “[Contracting Officer check as appropriate.]” and adding “commercial products and commercial services” and “[Contracting Officer check as appropriate.]” in their places, respectively;

g. Removing from paragraph (b)(1) “(OCT 1995)” and adding “(Date)” in its place;

h. Removing from paragraph (b)(2) “(JUN 2020)” and adding “(Date)” in its place;

i. Removing from paragraph (b)(8) “(JUN 2020)” and adding “(Date)” in its place;

j. Removing from paragraph (b)(17)(i) “(JUN 2020)” and adding “(Date)” in its place;

k. Removing from paragraph (b)(35)(i) “(JAN 2019)” and adding “(Date)” in its place;

l. Removing from paragraph (b)(36) “(OCT 2015)” and “commercial items” and adding “(Date)” and “commercial services” in their places, respectively;

m. Removing from paragraph (b)(48) “(MAY 2014)” and adding “(Date)” in its place;

n. Removing from paragraph (b)(49)(i) “(MAY 2014)” and adding “(Date)” in its place;

o. Removing from paragraph (b)(56) “Commercial Items” and “(FEB 2002)” and adding “Commercial Products and Commercial Services” and “(Date)” in their places, respectively;

p. Removing from paragraph (b)(57) “Commercial Items” and “(JAN 2017)” and adding “Commercial Products and Commercial Services” and “(Date)” in their places, respectively;

q. Removing from paragraph (b)(63)(i) “(FEB 2006)” and adding “(Date)” in its place;

r. Removing from paragraph (b)(63)(iii) “(FEB 2006)” and adding “(Date)” in its place;

s. Removing from the introductory text of paragraph (c) “commercial items” and “[Contracting Officer check as appropriate.]” and adding “commercial products and commercial services” and “[Contracting Officer check as appropriate.]” in their places, respectively;

t. Removing from the introductory text of paragraph(e)(1) “commercial items” and adding “commercial products or commercial services” in its place;

u. Removing from paragraph (e)(1)(i) “(JUN 2020)” and adding “(Date)” in its place;

v. Removing from paragraph (e)(1)(iii) “(JUL 2018)” and adding “(Date)” in its place;

w. Removing from paragraph (e)(1)(iv) “(AUG 2020)” and adding “(Date)” in its place;

x. Removing from paragraph (e)(1)(xiii)(A) “(JAN 2019)” and adding “(Date)” in its place;

y. Removing from paragraph (e)(1)(xvi) “(OCT 2015)” and adding “(Date)” in its place;

z. Removing from paragraph (e)(1)(xxii) “(FEB 2006)” and adding “(Date)” in its place;

aa. Removing from paragraph (e)(2) “May include in its subcontracts for commercial items” and adding “may include in its subcontracts for commercial products and commercial services” in its place;

bb. Revising the date of Alternate II;

cc. Removing from the introductory text of paragraph (e)(1) of Alternate II “commercial items” and adding “commercial products or commercial services” in its place;

dd. Removing from paragraph (e)(1)(ii)(A) of Alternate II “(JUN 2020)” and adding “(Date)” in its place;

ee. Removing from paragraph (e)(1)(ii)(C) of Alternate II “(JUL 2018)” and adding “(Date)” in its place;

ff. Removing from paragraph (e)(1)(ii)(D) of Alternate II “(AUG 2020)” and adding “(Date)” in its place;

gg. Removing from paragraph (e)(1)(ii)(L)(1) of Alternate II “(JAN 2019)” and adding “(Date)” in its place;

hh. Removing from paragraph (e)(1)(ii)(O) of Alternate II “(OCT 2015)” and adding “(Date)” in its place; and

ii. Removing from paragraph (e)(1)(ii)(U) of Alternate II “(FEB 2006)” and adding “(Date)” in its place.

The revised text reads as follows:

52.212-5 Contract Terms and Conditions Required To Implement Statutes or Executive Orders—Commercial Products and Commercial Services.

* * * * *

Contract Terms and Conditions Required To Implement Statutes or Executive Orders—Commercial Products and Commercial Services (Date)

* * * * *

Alternate II (Date) * * *

* * * * *

202. Amend section 52.213-4 by—

a. Removing from the section and clause headings “Commercial Items” and adding “Commercial Products and Commercial Services” in their places;

b. Revising the date of the clause;

c. Removing from paragraph (a)(1)(ii) “(JUL 2018)” and adding “(Date)”;

d. Removing from paragraph (a)(1)(iii) “(AUG 2020)” and adding “(Date)”;

e. Removing from paragraph (a)(2)(vi) “(DEC 2013)” and adding “(Date)”;

f. Removing from paragraph (a)(2)(viii) “Commercial Items” and “(AUG 2020)” and adding “Commercial Products and Commercial Services” and “(Date)” in their places, respectively;

g. Removing from paragraph (b)(1)(viii)(A) “(JAN 2019)” and adding “(Date)”;

h. Removing from paragraph (b)(1)(xvii) “(MAY 2014)” and adding “(Date)”;

i. Removing from paragraph (b)(1)(xxi) “(FEB 2006)” and adding “(Date)”;

j. Removing from paragraph (b)(2)(i) “(JUN 2016)” and adding “(Date)”; and

k. Removing from paragraph (b)(2)(ii) “(JUN 2020)” and adding “(Date)”.

The revised text reads as follows:

52.213-4 Terms and Conditions—Simplified Acquisitions (Other Than Commercial Products and Commercial Services).

* * * * *

Terms and Conditions—Simplified Acquisitions (Other Than Commercial Products and Commercial Services) (Date)

* * * * *

203. Amend section 52.215-1 by—

a. Revising the date of the provision; and

b. Removing from paragraph (f)(11)(v) “commercial items, the make and model of the item” and adding “commercial products, the make and model of the product” in its place.

The revised text reads as follows:

52.215-1 Instructions to Offerors—Competitive Acquisition.

* * * * *

Instructions to Offerors—Competitive Acquisition (Date)

* * * * *

204. Amend section 52.215-14 by—

a. Revising the date of the clause; and

b. Removing from paragraph (c) “commercial items”, and adding “commercial products and commercial services” in its place.

The revised text reads as follows:

52.215-14 Integrity of Unit Prices.

* * * * *

Integrity of Unit Prices (Date)

* * * * *

205. Amend section 52.215-20 by—

a. Revising the date of the provision; and

b. Removing from paragraph (a)(1)(ii) “Commercial item” and “commercial item” and adding “Commercial product and commercial service” and “commercial product and commercial service” in their places, respectively.

The revised text reads as follows:

52.215-20 Requirements for Certified Cost or Pricing Data and Data Other Than Certified Cost or Pricing Data.

* * * * *

Requirements for Certified Cost or Pricing Data and Data Other Than Certified Cost or Pricing Data (Date)

* * * * *

206. Amend section 52.215-21 by—

a. Revising the date of the clause;

b. Removing from the introductory text of paragraph (a)(1)(ii) “commercial items” and adding “commercial products or commercial services” in its place;

c. Removing from paragraph (a)(1)(ii)(A)(1) “commercial item” and adding “commercial product or commercial service” in its place;

d. Removing from paragraph (a)(1)(ii)(A)(2) “commercial item to a contract or subcontract for the acquisition of an item other than a commercial item” and adding “commercial product or commercial service, to a contract or subcontract for the acquisition of other than a commercial product or commercial service” in its place;

e. Redesignating paragraph (a)(1)(ii)(B) as (a)(1)(ii)(B); and

f. Removing from paragraph (a)(1)(ii)(B) “commercial item” and adding “commercial product and commercial service” in its place.

The revised text reads as follows:

52.215-21 Requirements for Certified Cost or Pricing Data and Data Other Than Certified Cost or Pricing Data—Modifications.

* * * * *

Requirements for Certified Cost or Pricing Data and Data Other Than Certified Cost or Pricing Data—Modifications (Date)

* * * * *

207. Amend section 52.216-2 by—

a. Revising the date of the clause; and

b. Removing from paragraph (a) “commercial item” and adding “commercial product” in its place.

The revised text reads as follows:

52.216-2 Economic Price Adjustment—Standard Supplies.

* * * * *

Economic Price Adjustment—Standard Supplies (Date)

* * * * *

208. Amend section 52.216-3 by—

a. Revising the date of the clause; and

b. Removing from paragraph (a) “commercial item” and adding “commercial product” in its place.

The revised text reads as follows:

52.216-3 Economic Price Adjustment—Semistandard Supplies.

* * * * *

Economic Price Adjustment—Semistandard Supplies (Date)

* * * * *

209. Amend section 52.216-29 by—

a. Removing from the section and clause headings “Non-Commercial Item” and adding “Other Than Commercial” in their places; and

b. Revising the date of the provision.

The revised text reads as follows:

52.216-29 Time-and-Materials/Labor-Hour Proposal Requirements—Other Than Commercial Acquisition With Adequate Price Competition.

* * * * *

Time-and-Materials/Labor-Hour Proposal Requirements—Other Than Commercial Acquisition With Adequate Price Competition (Date)

* * * * *

210. Amend section 52.216-30 by—

a. Removing from the section and clause headings “Non-Commercial Item” and adding “Other Than Commercial” in their places;

b. Revising the date of the provision; and

c. Removing from paragraph (d) “commercial item at 2.101” and adding “ “commercial service” at Federal Acquisition Regulation 2.101” in its place.

The revised text reads as follows:

52.216-30 Time-and-Materials/Labor-Hour Proposal Requirements—Other Than Commercial Acquisition without Adequate Price Competition.

* * * * *

Time-and-Materials/Labor-Hour Proposal Requirements—Other Than Commercial Acquisition without Adequate Price Competition (Date)

* * * * *

211. Amend section 52.216-31 by—

a. Removing from the section and clause headings “Commercial Item Acquisition” and adding “Commercial Acquisition” in its place; and

b. Revising the date of the provision.

The revised text reads as follows:

52.216-31 Time-and-Materials/Labor-Hour Proposal Requirements—Commercial Acquisition.

* * * * *

Time-and-Materials/Labor-Hour Proposal Requirements—Commercial Acquisition (Date)

* * * * *

212. Amend section 52.219-9 by—

a. Revising the date of the clause;

b. Removing from paragraph (b) the defined term “Commercial item”;

c. Removing from the defined term “Commercial plan” “commercial items” and adding “commercial products and commercial services” in its place;

d. Adding, in alphabetical order, the definitions “Commercial product” and “Commercial service”;

e. Removing from paragraph (g) “commercial items” and “commercial item” and adding “commercial products and commercial services” and “commercial product or commercial service” in their places; and

f. Removing from paragraph (j) “52.212-5”, “Commercial Items” (twice), “commercial item”, and “52.244-6” and adding “FAR 52.212-5”, “Commercial Products and Commercial Services” (twice), “commercial product or commercial service”, and “FAR 52.244-6” in their places, respectively.

The added and revised text reads as follows:

52.219-9 Small Business Subcontracting Plan.

* * * * *

Small Business Subcontracting Plan (Date)

* * * * *

(b) * * *

Commercial product means a product that satisfies the definition of “commercial product” in Federal Acquisition Regulation (FAR) 2.101.

Commercial service means a service that satisfies the definition of “commercial service” in FAR 2.101.

* * * * *

213. Amend section 52.222-50 by—

a. Revising the date of the clause; and

b. In the defined term “Commercially available off-the-shelf (COTS) item” in paragraph (a), removing “means” in the introductory paragraph, and revising paragraph (1)(i).

The revised text reads as follows:

52.222-50 Combating Trafficking in Persons.

* * * * *

Combating Trafficking in Persons (Date)

* * * * *

(a) * * *

(1) Means any item of supply (including construction material) that is-

(i) A commercial product (as defined in paragraph (1) of the definition of “commercial product” at Federal Acquisition Regulation (FAR) 2.101;

* * * * *

214. Amend section 52.222-54 by—

a. Revising the date of the clause;

b. In the defined term “Commercially available off-the-shelf (COTS) item” in paragraph (a), revising paragraph (1)(i); and

c. Removing from paragraph (e)(1)(i) “Commercial or noncommercial services” and adding “Services” in its place.

The revised text reads as follows:

52.222-54 Employment Eligibility Verification.

* * * * *

Employment Eligibility Verification (Date)

* * * * *

(a) * * *

(1) * * *

(i) A commercial product (as defined in paragraph (1) of the definition of “commercial product” at Federal Acquisition Regulation (FAR) 2.101;

* * * * *

215. Amend section 52.225-1 by—

a. Revising the date of the clause; and

b. In the defined term “Commercially available off-the-shelf (COTS) item” in paragraph (a), revising paragraph (1)(i).

The revised text reads as follows:

52.225-1 Buy American—Supplies.

* * * * *

Buy American—Supplies (Date)

* * * * *

(a) * * *

(1) * * *

(i) A commercial product (as defined in paragraph (1) of the definition of “commercial product” at Federal Acquisition Regulation (FAR) 2.101;

* * * * *

216. Amend section 52.225-3 by—

a. Revising the date of the clause; and

b. In the defined term “Commercially available off-the-shelf (COTS) item” in paragraph (a), revising paragraph (1)(i).

The revised text reads as follows:

52.225-3 Buy American—Free Trade Agreements—Israeli Trade Act.

* * * * *

Buy American—Free Trade Agreements—Israeli Trade Act (Date)

* * * * *

(a) * * *

(1) * * *

(i) A commercial product (as defined in paragraph (1) of the definition of “commercial product” at Federal Acquisition Regulation (FAR) 2.101;

* * * * *

217. Amend section 52.225-9 by—

a. Revising the date of the clause;

b. In the defined term “Commercially available off-the-shelf (COTS) item” in paragraph (a), revising paragraph (1)(i); and

c. Removing from paragraph (b)(2) “commercial item” and adding “commercial product” in its place.

The revised text reads as follows:

52.225-9 Buy American—Construction Materials.

* * * * *

Buy American—Construction Materials (Date)

* * * * *

(a) * * *

(1) * * *

(i) A commercial product (as defined in paragraph (1) of the definition of “commercial product” at Federal Acquisition Regulation (FAR) 2.101;

* * * * *

218. Amend section 52.225-11 by—

a. Revising the date of the clause;

b. In the defined term “Commercially available off-the-shelf (COTS) item” in paragraph (a), revising paragraph (1)(i); and

c. Removing from paragraph (b)(3) “commercial item” and adding “commercial product” in its place.

The revised text reads as follows:

52.225-11 Buy American—Construction Materials Under Trade Agreements.

* * * * *

Buy American—Construction Materials Under Trade Agreements (Date)

* * * * *

(a) * * *

(1) * * *

(i) A commercial product (as defined in paragraph (1) of the definition of “commercial product” at Federal Acquisition Regulation (FAR) 2.101;

* * * * *

219. Amend section 52.232-7 by—

a. Revising the date of the clause;

b. Removing from paragraph (b)(2) “commercial item at 2.101” and adding “commercial product or commercial service in Federal Acquisition Regulation (FAR) 2.101” in its place.

The revised text reads as follows:

52.232-7 Payments Under Time-and-Materials and Labor-Hour Contracts.

* * * * *

Payments Under Time-and-Materials and Labor-Hour Contracts (Date)

* * * * *

220. Amend section 52.232-16 by—

a. Revising the date of the clause;

b. Removing from the introductory text of paragraph (j)(5) “commercial item” and adding “commercial product or commercial service” in its place; and

c. Removing from paragraph (j)(5)(i) “commercial item purchase that meets the definition and standards for acquisition of commercial items in FAR Parts” and adding “commercial product or commercial service purchase that meets the definition and standards for acquisition of commercial products and commercial services in FAR parts” in its place.

The revised text reads as follows:

52.232-16 Progress Payments.

* * * * *

Progress Payments (Date)

* * * * *

221. Amend section 52.232-29 by—

a. Removing from the section and clause headings “Commercial Items” and adding “Commercial Products and Commercial Services” in their places;

b. Revising the date of the clause; and

c. Removing from paragraph (b) “52.212-4, Contract Terms and Conditions—Commercial Items” and adding “Federal Acquisition Regulation (FAR) 52.212-4, Contract Terms and Conditions-Commercial Products and Commercial Services” in its place; and

d. Removing from paragraph (h) “52.232-31” and adding “FAR 52.232-31” in its place.

The revised text reads as follows:

52.232-29 Terms for Financing of Purchases of Commercial Products and Commercial Services.

* * * * *

Terms for Financing of Purchases of Commercial Products and Commercial Services (Date)

* * * * *

222. Amend section 52.232-30 by—

a. Removing from the section and clause headings “Commercial Items” and adding “Commercial Products and Commercial Services” in their places;

b. Revising the date of the clause; and

c. Removing from paragraph (g) “52.212-4, Contract Terms and Conditions—Commercial Items” and adding “Federal Acquisition Regulation 52.212-4, Contract Terms and Conditions-Commercial Products and Commercial Services” in its place.

The revised text reads as follows:

52.232-30 Installment Payments for Commercial Products and Commercial Services.

* * * * *

Installment Payments for Commercial Products and Commercial Services (Date)

* * * * *

223. Amend section 52.232-31 by—

a. Revising the date of the provision; and

b. Removing from paragraph (a) “Commercial Items, at 52.232-29” and adding “Commercial Products and Commercial Services, at Federal Acquisition Regulation (FAR) 52.232-29” in its place; and

c. Removing from paragraph (b) “52.232-29, Terms for Financing of Purchases of Commercial Items, the terms of the clause at 52.232-29 shall govern” and adding “FAR 52.232-29, Terms for Financing of Purchases of Commercial Products and Commercial Services, the terms of the clause at FAR 52.232-29 shall govern” in its place.

The revised text reads as follows:

52.232-31 Invitation To Propose Financing Terms.

* * * * *

Invitation To Propose Financing Terms (Date)

* * * * *

224. Amend section 52.232-40 by—

a. Revising the date of the clause; and

b. Removing from paragraphs (c) “commercial items” and adding “commercial products or commercial services” in its place.

The revised text reads as follows:

52.232-40 Providing Accelerated Payments to Small Business Subcontractors.

* * * * *

Providing Accelerated Payments to Small Business Subcontractors (Date)

* * * * *

225. Amend section 52.242-17 by revising the introductory text. The revised text reads as follows:

52.242-17 Government Delay of Work.

As prescribed in 42.1305(c), insert the following clause:

* * * * *

226. Amend section 52.244-6 by—

a. Removing from the section and clause headings “Commercial Items” and adding “Commercial Products and Commercial Services” in its place;

b. Revising the date of the clause;

c. In paragraph (a), in the defined terms “Commercial item” and “commercially available off-the-shelf item” removing “Commercial item” and adding “Commercial product,” and “commercial service,” in its place;

d. Removing from the defined term “Subcontract” in paragraph (a) “commercial items” and adding “commercial products or commercial services” in its place;

e. Removing from paragraph (b) “commercial items” and adding “commercial products, commercial services,” in its place;

f. Removing from the introductory text of paragraph (c)(1) “commercial items” and adding “commercial products or commercial services” in its place;

g. Removing from paragraph (c)(1)(i) “(Jun 2020)” and adding “(Date)” in its place;

h. Removing from paragraph (c)(1)(iv) “(JUN 2016)” and adding “(Date)” in its place;

i. Removing from paragraph (c)(1)(v) “(JUL 2018)” and adding “(Date)” in its place;

j. Removing from paragraph (c)(1)(vi) “(AUG 2020)” and adding “(Date)” in its place;

k. Removing from paragraph (c)(1)(xiv)(A) “(JAN 2019)” and adding “(Date)” in its place;

l. Removing from paragraph (c)(1)(xix) “(DEC 2013)” and adding “(Date)” in its place;

m. Removing from paragraph (c)(1)(xx) “(FEB 2006)” and adding “(Date)” in its place;

n. Removing from paragraph (c)(2) “commercial items” and adding “commercial products or commercial services” in its place.

The revised text reads as follows:

52.244-6 Subcontracts for Commercial Products and Commercial Services.

* * * * *

Subcontracts for Commercial Products and Commercial Services (Date)

* * * * *

227. Amend section 52.246-26 by—

a. Revising the date of the clause;

b. Removing from paragraph (g)(1)(i) “FAR” and adding “Federal Acquisition Regulation (FAR)” in its place; and

c. Removing from paragraph (g)(2)(i) “Commercial items” and adding “Commercial products and commercial services” in its place. The revised text reads as follows:

52.246-26 Reporting Nonconforming Items.

* * * * *

Reporting Nonconforming Items (Date)

* * * * *

228. Amend section 52.247-64 by—

a. Revising the date of clause;

b. Removing from the introductory text of paragraph (e)(4) “commercial items” and adding “commercial products or commercial services” in its place;

c. Revising the date of Alternate II;

d. Removing from the introductory text of paragraph (e)(4) of Alternate II “commercial items” and adding “commercial products or commercial services” in its place; and

e. Removing from paragraph (e)(4)(ii)(C) of Alternate II “commercial items” and adding “commercial products” in its place.

The revised text reads as follows:

52.247-64 Preference for Privately Owned U.S.-Flag Commercial Vessels.

* * * * *

Preference for Privately Owned U.S.-Flag Commercial Vessels (Date)

* * * * *

Alternate II (Date)

* * * * *

PART 53—FORMS

53.212 [Amended]

229. Amend section 53.212 by—

a. Removing from the section heading “commercial items” and adding “commercial products and commercial services” in its place; and

b. Removing from the paragraph (“Rev.2/2012)”, “Commercial Items” and “commercial items” and adding “(Rev. Date)”, “Commercial Products and Commercial Services” and “commercial products and commercial services” in their places, respectively.

53.213 [Amended]

230. Amend section 53.213 by—

a. Removing from paragraph (a) “(Rev. 2/2012)” and “Commercial Items” and adding “(Rev. Date)” and “Commercial Products and Commercial Services” in their places, respectively; and

b. Removing from paragraph (f) “(Rev. 2/2012)” and “Commercial Items” and adding “(Rev. Date)” and “Commercial Products and Commercial Services” in their places, respectively.

53.219 [Amended]

231. Amend section 53.219 by removing from the text “(Rev. 8/2016)” and adding “(Rev. Date)” in its place.

53.232 [Amended]

232. Amend section 53.232 by removing from the text “(Jul 2009)” and adding “(Date)” in its place.

53.300 [Amended]

233. Amend section 53.300 by removing from the Table 53-1 in paragraph (a) “SF 1449 Solicitation/Contract/Order for Commercial Items” and adding “SF 1449 Solicitation/Contract/Order for Commercial Products and Commercial Services” in its place.

[FR Doc. 2020-20142 Filed 10-14-20; 8:45 am]

BILLING CODE 6820-EP-P